DEPARTMENT OF JUSTICE

[OMB Number 1140-0019]

Agency Information Collection Activities; Proposed eCollection eComments Requested; Federal Firearms License (FFL) RENEWAL Application—ATF Form 8 (5310.11) Part II

AGENCY: Bureau of Alcohol, Tobacco, Firearms and Explosives, Department of Justice.

ACTION: 30-day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for an additional 30 days until October 30, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Extension without change of a currently approved collection.

(2) The Title of the Form/Collection: Federal Firearms License (FFL) RENEWAL Application.

(3) The agency form number, if any, and the applicable component of the Department sponsoring the collection:

Form number: ATF Form 8 (5310.11) Part II.

Component: Bureau of Alcohol, Tobacco, Firearms and Explosives, U.S. Department of Justice.

(4) Affected public who will be asked or required to respond, as well as a brief abstract:

Primary: Business or other for-profit.

Other: Individuals or households.

Abstract: The Federal Firearms License (FFL) RENEWAL Application—ATF Form 8 (5310.11) Part II is used by members of the public to renew a Federal firearms license (FFL). The collected information is used to identify the FFL business premises and/or firearm collection activity, and determine the applicant's eligibility for a FLL renewal.

(5) An estimate of the total number of respondents and the amount of time estimated for an average respondent to respond: An estimated 34,000 respondents will utilize the form annually, and it will take each respondent 30 minutes to complete their responses.

(6) An estimate of the total public burden (in hours) associated with the collection: The estimated annual public burden associated with this collection is 17,000 hours, which is equal to 34,000 (# of respondents) * 1 (total responses per respondent) * .5 (30 minutes).

(7) An Explanation of the Change in Estimates: The adjustments associated with this information collection include a decrease in the total respondents and burden hours by 1,000 and 500 hours respectively, since the last renewal in 2018. Due to a slight increase in the postage costs from .49 cents to .55 cents currently, the total cost burden has increased by $1,550, since 2018.

If additional information is required contact: Melody Braswell, Department Clearance Officer, United States Department of Justice, Justice Management Division, Policy and Planning Staff, Two Constitution Square, 145 N Street NE, 3E.405A, Washington, DC 20530.

Dated: September 25, 2020.
Melody Braswell,
Department Clearance Officer for PRA, U.S. Department of Justice.

[FR Doc. 2020-21595 Filed 9-29-20; 8:45 am]

BILLING CODE 4410-14-P